Title 3—

The President

Proclamation 10260 of September 17, 2021

Minority Enterprise Development Week, 2021

By the President of the United States of America

A Proclamation

For many families, a business is more than a job—it is the fulfillment of a dream: a better life, a family legacy, a place in the community. Minority businesses in particular are the heart and soul of so many communities across our Nation. From Wall Street to Main Street, over 9.2 million minority business enterprises (MBEs) support jobs and generate more than $1.8 trillion for our economy every year. During Minority Enterprise Development Week, our Nation recognizes the importance of minority-owned businesses and the impact they have on every community.

Even as the COVID-19 pandemic continues to test America's businesses like few events in our Nation's history, MBEs and minority business owners have shown remarkable resilience, working around the clock and adapting to changes to keep their businesses running and their employees safely working. Despite these efforts, minority-owned businesses have been disproportionately hard-hit, with many forced to shut down because of revenue losses and many more hanging on by a thread.

My Administration is committed to supporting minority entrepreneurs and minority-owned businesses. On my first day in office, I signed an Executive Order directing the entire Federal Government to advance equity for underserved communities across our Nation, specifically with respect to Federal procurement. In order to help our struggling businesses during the darkest moments of the pandemic, my Administration revamped the Paycheck Protection Program to provide greater access to small businesses, including minority-owned businesses.

Because the Federal Government is the Nation's largest buyer, purchasing $600 billion of goods and services each year, and because these purchases not only meet our Nation's needs but also supply economic opportunity, I recently announced a new goal to increase the share of contracts awarded to small disadvantaged businesses by 50 percent over the next 5 years. Additionally, my Bipartisan Infrastructure Deal will expand the authority and stature of the Minority Business Development Agency within the Department of Commerce so that it can continue to break barriers, blaze new trails, and eliminate the unique challenges minority-owned businesses face in accessing capital, contracts, and market avenues to success.

During Minority Enterprise Development Week, we recognize that our Nation and our economy are stronger because of the hardworking men and women who comprise America's minority business community. They consistently demonstrate the courage it takes to overcome adversity, seize opportunity, and contribute to our shared prosperity.

NOW, THEREFORE, I, JOSEPH R. BIDEN JR., President of the United States of America, by virtue of the authority vested in me by the Constitution and the laws of the United States, do hereby proclaim September 19, 2021, through September 25, 2021, as Minority Enterprise Development Week. I call upon the people of the United States to acknowledge and celebrate the achievements and contributions of minority business entrepreneurs and enterprises and commit together to promote systemic economic equality.

IN WITNESS WHEREOF, I have hereunto set my hand this seventeenth day of September, in the year of our Lord two thousand twenty-one, and of the Independence of the United States of America the two hundred and forty-sixth.

[FR Doc. 2021-20625

Filed 9-21-21; 8:45 am]

Billing code 3295-F1-P